FEDERAL MARITIME COMMISSION

Agency Information Collection Activities: 60-Day Public Comment Request

AGENCY: Federal Maritime Commission.

ACTION: Notice and request for comments.

SUMMARY: As part of our continuing effort to reduce paperwork and respondent burden, and as required by the Paperwork Reduction Act of 1995, the Federal Maritime Commission (Commission) invites comments on the continuing information collections listed below in this notice.

DATES: Written comments must be submitted on or before February 7, 2022.

ADDRESSES: Submit comments for the proposed information collection requests to Lucille L. Marvin, Managing Director at email: omd@fmc.gov. Please refer to the assigned OMB control number on any correspondence submitted. The FMC will summarize any comments received in response to this notice in a subsequent notice and include them in its information collection submission to OMB for approval.

FOR FURTHER INFORMATION CONTACT: Copies of the information collections and instructions, or copies of any comments received, may be obtained by contacting Donna Lee at omd@fmc.gov or 202-523-5800.

SUPPLEMENTARY INFORMATION:

Request for Comments

The Commission, as part of its continuing effort to reduce paperwork and respondent burden, invites the general public and other Federal agencies to comment on the continuing information collections listed in this notice, as required by the Paperwork Reduction Act of 1995 (44 U.S.C. 3501 et seq.).

Comments submitted in response to this notice will be included or summarized in our request for Office of Management and Budget (OMB) approval of the relevant information collection. All comments are part of the public record and subject to disclosure. Please do not include any confidential or inappropriate material in your comments. We invite comments on: (1) The necessity and utility of the proposed information collection for the proper performance of the agency's functions; (2) the accuracy of the estimated burden; (3) ways to enhance the quality, utility, and clarity of the information to be collected; and (4) the use of automated collection techniques or other forms of information technology to minimize the information collection burden.

Information Collections Open for Comment

Title: 46 CFR part 531—NVOCC Service Arrangements.

OMB Approval Number: 3072-0070 (Expires April 30, 2022).

Abstract: Section 16 of the Shipping Act of 1984, 46 U.S.C. 40103, authorizes the Commission to exempt by rule “any class of agreements between persons subject to this part or any specified activity of those persons from any requirement of this part if the Commission finds that the exemption will not result in substantial reduction in competition or be detrimental to commerce. The Commission may attach conditions to an exemption and may, by order, revoke an exemption.” 46 CFR part 531 allows non-vessel-operating common carriers (NVOCCs) and shippers' associations with NVOCC members to act as shipper parties in NVOCC Service Arrangements (NSAs), and to be exempt from certain tariff publication requirements of the Shipping Act provided the NVOCC posts a prominent notice in its rules tariff invoking the NSA exemption, and provides electronic access to its rules tariff to the public free of charge. This information collection corresponds to the requirements to include the NSA exemption in the tariff, recordkeeping requirements, and the requirement to make the tariff publicly available free of charge.

Current Actions: This information being submitted contains updates to the information collection.

Type of Review: Extension.

Needs and Uses: The Commission uses NSAs and associated data for monitoring and investigatory purposes and, in its proceedings, to adjudicate related issues raised by private parties.

Frequency: NVOCCs that opt to enter into an NSA in lieu of publishing tariff rate(s) must post a one-time notice in its rules tariff invoking the NSA exemption.

Type of Respondents: Parties that enter into NSAs are NVOCCs and shippers' associations with NVOCC members.

Number of Annual Respondents: The Commission estimates an annual respondent universe of 325. The Commission expects the estimated number of annual respondents to remain at 325 in the future.

Estimated Time per Response: The time per response is estimated to be 15 minutes to add a tariff rule invoking the NSA exemption, and 1 hour for recordkeeping requirements.

Total Annual Burden: For the 325 annual respondents, the burden is calculated as 325 × .25 hour = 81.25 hours, rounded to 81 and 325 × 1= 325. Total annual burden is estimated to be 406 hours.

Title: 46 CFR part 532—NVOCC Negotiate Rate Arrangements.

OMB Approval Number: 3072-0071 (Expires April 30, 2022).

Abstract: Section 16 of the Shipping Act of 1984, 46 U.S.C. 40103, authorizes the Commission to exempt by order or regulation “any class of agreements between persons subject to this [Act] or any specified activity of those persons from any requirement of this [Act] if the Commission finds that the exemption will not result in substantial reduction in competition or be detrimental to commerce.” The Commission may attach conditions to any exemption and may, by order, revoke an exemption. In 46 CFR part 532, the Commission exempted non-vessel-operating common carriers (NVOCCs) from the tariff rate publication requirements of Part 520, and allowed an NVOCC to enter into an NVOCC Negotiated Rate Arrangement (NRA) in lieu of publishing its tariff rate(s), provided the NVOCC posts a prominent notice in its rules tariff invoking the NRA exemption and provides electronic access to its rules tariff to the public free of charge. This information collection corresponds to the rules tariff prominent notice and the requirement to make its rules tariff publicly available free of charge.

Current Actions: There are no changes to this information collection, and it is being submitted for extension purposes only.

Type of Review: Extension.

Needs and Uses: The Commission uses the information filed by an NVOCC in its rules tariff to determine whether the NVOCC has invoked the exemption for a particular shipment or shipments. The Commission has used and will continue to use the information required to be maintained by NVOCCs for monitoring and investigatory purposes, and, in its proceedings, to adjudicate related issues raised by private parties.

Frequency: NVOCCs that opt to enter into an NRA in lieu of publishing tariff rate(s) must post a one-time notice in its rules tariff invoking the NRA exemption. NVOCCs that opt to use NRAs exclusively must publish an NRA rules tariff.

Type of Respondents: NVOCCs.

Number of Annual Respondents: The Commission expects the estimated number of annual respondents to remain at 194 in the future.

Estimated Time per Response: 15 minutes for those adding a tariff rule to use a combination of tariff rates and NRAs, and 1 hour for recordkeeping requirements. For those using NRAs exclusively, one hour to publish an NRA rules tariff.

Total Annual Burden: Of the 194 new NVOCCs who have filed a rule or prominent notice in their respective tariffs, we estimate that 3% (6) will use NRAs exclusively. For the 194 annual respondents, the total burden is calculated as follows: 194 × 1 hour = 194 and 6 × 1 hour = 6 hours (3% using NRAs exclusively) and 188 × .25 hour = 47 hours. Total annual burden is estimated to be 247 hours.

JoAnne D. O'Bryant,
Program Analyst.

[FR Doc. 2021-26425 Filed 12-6-21; 8:45 am]

BILLING CODE 6730-02-P